DEPARTMENT OF THE INTERIOR

Fish and Wildlife Service

Incidental Take Permit and Habitat Conservation Plan for AT&T Corporation

AGENCY: Fish and Wildlife Service, Interior.

ACTION: Notice of availability.

SUMMARY: AT&T Corporation (Applicant) has applied to the Fish and Wildlife Service (Service) for an incidental take permit pursuant to section 10(a)(1)(B) of the Endangered Species Act of 1973, as amended (Act). The Service proposes to issue a 10-year permit that would authorize take (e.g., harm and harassment) of the endangered Point Arena mountain beaver (Aplodontia rufa nigra) incidental to otherwise lawful activities. Such take would occur as the result of construction to connect an existing fiber optic conduit to the AT&T Point Arena Cable Station located near Manchester, Mendocino County, California.

We request comments from the public on the permit application which includes a Habitat Conservation Plan (HCP) for the Point Arena mountain beaver. We also request comments on our preliminary determination that the HCP qualifies as a “low-effect” habitat conservation plan, eligible for a categorical exclusion from additional documentation under the National Environmental Policy Act.

DATES: Written comments should be received on or before September 25, 2002.

ADDRESSES: Send written comments to Mr. Bruce G. Halstead, Project Leader, U.S. Fish and Wildlife Service, 1655 Heindon Road, Arcata, California, 95521. Comments may also be sent by facsimile to (707) 822-8411.

FOR FURTHER INFORMATION CONTACT: Mr. John Hunter, Fish and Wildlife Biologist, at the above address or call (707) 822-7201.

SUPPLEMENTARY INFORMATION:

Document Availability

The permit application, HCP, and the Service's low-effect HCP screening form are available for public review. The HCP describes the proposed project and the measures that the Applicant would undertake to minimize and mitigate take of Point Arena mountain beavers. The screening form describes the basis for the Service's preliminary determination that the HCP qualifies as a low effect plan eligible for a categorical exclusion under the National Environmental Policy Act.

Please contact the above office if you would like copies of the application, HCP and screening form. Documents will also be available for review, by appointment, during normal business hours at the above address. All comments we receive, including names and addresses, will become part of the administrative record and may be released to the public.

Background

Section 9 of the Act and Federal regulations prohibit the “take” of fish and wildlife species listed as endangered or threatened. Take of listed fish or wildlife is defined under the Act to include kill, harm, or harass. The Service may, under limited circumstances, issue permits to authorize incidental take; i.e., take that is incidental to, and not the purpose of, otherwise lawful activity. Regulations governing incidental take permits for threatened and endangered species are found in 50 CFR 17.32 and 50 CFR 17.22, respectively.

The Applicant has applied to the Service for a section 10(a)(1)(B) incidental take permit for the point Arena mountain beaver, on the AT&T Point Arena Cable Station, in Mendocino County, California. The term of the permit would be 10 years. The AT&T Cable Station consists of 11.2 acres of privately-owned land located approximately 1 mile northwest of the town of Manchester. Prior to the listing of the Point Arena mountain beaver, three 5-inch-diameter steel bore pipes were installed below the surface of the ground from a point offshore of the cable station in the Pacific Ocean to a point about 88 feet from the north side of the cable station building. An occupied Point Arena mountain beaver burrow system is located 30 feet north from the end of the bore pipes. The Applicant proposes to install an access vault at this location, trench and bury cable conduit for 77 feet, and then install a manhole at the end of the cable conduit. The Applicant may then utilize this system by placing fiber optic cables in these pipes and conduits. The Service considers this project to entail take of Point Arena mountain beaver since noise and vibration disturbance and habitat loss will occur near occupied burrows.

The AT&T Cable Station is composed of structures, a parking lot, access roads, occupied Point Arena mountain beaver habitat and unoccupied potential habitat. The occupied, and some of the unoccupied, habitat consists of stabilized dunes dominated by bush lupine (Lupinus arboreus) and other coastal scrub and coastal strand species such as coyote brush (Baccharis pilularis), coast goldenrod (Solidago spathulata), ice-plant (Carpobrotus sp.), and other mixed grasses and forbs. Much of the currently unoccupied habitat consists of non-native, invasive conifers including Monterey pine (Pinus radiata) and Monterey cypress (Cypress macrocarpa). Habitat in the surrounding areas are similar, although there are large areas of unsuitable agricultural pasture lands.

The proposed project will permanently remove approximately 15 square feet of suitable but currently unoccupied habitat, and cause about 7 days of non-breeding season disturbance of all mountain beavers on about 0.25 acre of occupied habitat. There may also be 1 day of breeding season disturbance on the same 0.25 acre while fiber optic cables are pulled through the pipes and conduits. Mitigation for the HCP involves rehabilitation and maintenance of 1 acre of unoccupied and currently unsuitable habitat presently covered by non-native conifers. This rehabilitation work will cause disturbance for an additional 3 to 5 days during the non-breeding season and will affect all Point Arena mountain beaver associated with approximately 3 acres of occupied habitat.

As described in the HCP, the Applicant proposes the following measures to minimize and mitigate the anticipated project impacts: (A) All construction (except cable pulling) and habitat rehabilitation work will occur outside of the Point Arena mountain beaver breeding season (December 15 to June 30) and during daylight hours; (B) an 8-foot-high, 3/4-inch-wide plywood sound barrier will be placed between the construction and the occupied habitat; (C) vibratory compactors will only be used at the proposed manhole location; (D) areas altered by trenching will be restored as much as possible to a prework condition; (E) all activities including entry of personnel into the occupied habitats will be closely supervised by a biological monitor; and (F) material from cut conifers will be disposed off site.

Monitoring of the mountain beaver population at the entire Cable Station site will consist of two surveys per year, every other year, for 10 years. The methods for this monitoring will closely follow a methodology and a layout which have been in place on this site since 1992, and will thereby contribute to the only long-term monitoring program for this subspecies. In addition, counts of burrow openings in areas rehabilitated by non-native conifer removal will also occur on the same schedule in order to assess the effectiveness of the mitigation.

The Service's Proposed Action consists of the issuance of an incidental take permit and implementation of the HCP, which includes measures to minimize and mitigate impacts of the project on Point Arena mountain beaver. One alternative to the taking of listed species under the Proposed Action is considered in the HCP. Under the No Action Alternative, no permit would be issued. However, this alternative would result in an economic burden to the Applicant and no Point Arena mountain beaver habitat rehabilitation would occur.

The Service has made a preliminary determination that the HCP qualifies as a “low effect” plan as defined by its Habitat Conservation Planning Handbook (November 1996). The Service determination that a habitat conservation plan qualifies as a low-effect plan is based on the following criteria: (1) Implementation of the plan would result in minor or negligible effects on federally listed, proposed, and candidate species and their habitats; (2) implementation of the plan would result in minor or negligible effects on other environmental values or resources; and (3) impacts of the plan, considered together with the impacts of other past, present, and reasonably foreseeable similarly situated projects would not result, over time, in cumulative effects to environmental values or resources which would be considered significant. As more fully explained in the Screening Form for Low-Effect HCP Determinations, the Applicant's HCP for the Point Area Cable Station qualifies as a “low-effect” plan for the following reasons:

1. Approval of the HCP would result in minor or negligible effects to the Point Arena mountain beaver. The Service does not anticipate significant direct or cumulative effects to the Point Arena mountain beaver resulting from the proposed construction. No other federally listed, proposed, or candidate species are known or expected to occur within or immediately adjacent to the proposed construction.

2. Approval of the HCP would not have adverse effects on unique geographic, historic or cultural sites, or involve unique or unknown environmental risks.

3. Approval of the HCP would not result in any cumulative or growth inducing impacts and, therefore, will not result in significant adverse effects on public health or safety.

4. The project does not require compliance with Executive Order 11988 (Floodplain Management), Executive Order 11990 (Protection of Wetlands), or the Fish and Wildlife Coordination Act, nor does it threaten to violate a Federal, State, local, or tribal law or requirement imposed for the protection of the environment.

5. Approval of the HCP would not establish a precedent for future action or represent a decision in principle about future actions with potentially significant environmental effects.

The Service therefore has made a preliminary determination that approval of the HCP qualifies as a categorical exclusion under the National Environmental Policy Act, as provided by the Department of Interior Manual (516 DM2, Appendix 1 and 516 DM 6, Appendix 1). Based on this preliminary determination, we do not intend to prepare further National Environmental Policy Act documentation. The Service will consider public comments in making its final determination on whether to prepare such additional documentation.

The Service provides this notice pursuant to section 10(c) of the Act. We will evaluate the permit application, the HCP, and comments submitted thereon to determine whether the application meets the requirements of section 10(a) of the Act. If the requirements are met, the Service will issue a permit for the incidental take of the Point Arena mountain beaver from the proposed construction project. We will make the final permit decision no sooner than 30 days from the date of this notice.

Dated: August 19, 2002.
Ken McDermond,
Deputy Manager, California/Nevada Operations Office, Sacramento, California.

[FR Doc. 02-21603 Filed 8-23-02; 8:45 am]

BILLING CODE 4310-55-P